INTERNATIONAL TRADE COMMISSION

[Investigation No. 337-TA-650]

Certain Coaxial Cable Connectors and Components Thereof and Products Containing Same; Notice of Commission Advisory Opinion

AGENCY: U.S. International Trade Commission.

ACTION: Notice.

SUMMARY: Notice is hereby given that the U.S. International Trade Commission has issued an advisory opinion in the above-captioned investigation.

FOR FURTHER INFORMATION CONTACT: Jean Jackson, Esq., Office of the General Counsel, U.S. International Trade Commission, 500 E Street SW., Washington, DC 20436, telephone (202) 205-3104. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 30, 2008, based on a complaint filed by John Mezzalingua Associates, Inc., d/b/a PPC, Inc. of East Syracuse, New York (“PPC”). 73 FR 31145 (May 30, 2008). The complaint alleged violations of section 337 of the Tariff Act of 1930 (19 U.S.C. 1337) (“Section 337”) in the importation into the United States, the sale for importation, and the sale within the United States after importation of certain coaxial cable connectors and components thereof and products containing the same by reason of infringement of various patents, including U.S. Patent No. 6,558,194 (“the `194 patent”). The notice of institution named eight respondents. After institution, two respondents were terminated based on consent orders and four respondents were found to be in default (“defaulting respondents”). Two respondents, Fu-Ching Technical Industry, Co., Ltd., and Gem Electronics, Inc., remained active.

On October 13, 2009, the Administrative Law Judge (“ALJ”) issued his final initial determination (“ID”) and recommended determination on remedy and bonding. The ALJ found a violation of section 337 by the defaulting respondents in connection with the `194 patent. On December 14, 2009, the Commission determined to review the final ID in part, but the Commission did not review the ALJ's determination with respect to the `194 patent. The Commission issued a general exclusion order on March 31, 2010 with respect to the `194 patent based on a finding of violation of Section 337 by the defaulting respondents.

On September 12, 2011, non-respondent, Holland Electronics, LLC (“Holland”) filed a request for an advisory opinion under Commission Rule 210.79 (19 CFR 210.79) that would declare that its coaxial cable connectors, utilizing an axial but not radial compression for deformation, are outside of the scope of the Commission's March 31, 2010 general exclusion order. Holland further requested that the Commission conduct all proceedings related to the advisory opinion in an expedited manner and not refer the matter to an administrative law judge (ALJ).

On October 31, 2011, the Commission determined to institute an advisory opinion proceeding based on Holland's request. 76 FR 68504 (November 4, 2011). The Commission directed PPC and the Commission Investigative Attorney (“IA”) to state their views regarding whether they oppose Holland's request for an advisory opinion that its subject connectors are not covered by the March 31, 2010, general exclusion order, and if so, whether they believe the matter should be referred to an ALJ. Id. On November 11, 2011, PPC filed a response in support of Holland's request for an advisory opinion. On November 14, 2011, the IA also filed a response in support of Holland's request. Both PPC and the IA stated that it was not necessary to refer this matter to the ALJ.

The Commission has reviewed the parties' submissions and has determined to grant Holland's request for an advisory opinion that its products embodying the design set forth in Exhibit H to Holland's advisory opinion request, and specifically the products listed in Exhibit I to Holland's request that embody that design, are not covered by the Commission's general exclusion order issued on March 31, 2010.

The authority for the Commission's determination is contained in section 337 of the Tariff Act of 1930, as amended (19 U.S.C. 1337), and in section 210.79(a) of the Commission's Rules of Practice and Procedure (19 CFR 210.79(a)).

By order of the Commission.
Issued: February 9, 2012.
James R. Holbein,
Secretary to the Commission.

[FR Doc. 2012-3466 Filed 2-14-12; 8:45 am]

BILLING CODE 7020-02-P